DEPARTMENT OF HOUSING AND URBAN DEVELOPMENT

[Docket No. FR-4644-N-42]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Space Management, SVC-140, Transportation Administrative Service Center, Department of Transportation, 400 7th Street, SW., Room 2310, Washington, DC 20590; (202) 366-4246; ENERGY: Mr. Tom Knox, Department of Energy, Office of Engineering & Construction Management, CR-80, Washington, DC 20585; (202) 586-8715; GSA: Mr.Brian K. Polly, Assistant Commissioner, General Services Administration, Office of Property Disposal, 18th and F Streets, NW., Washington, DC 20405; (202) 501-0052; INTERIOR: Ms. Linda Tribby, Acquisition & Property Management, Department of the Interior, 1849 C Street, NW., Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: October 11, 2001.
John D. Garrity,
Director, Office of Special Needs Assistance Programs.

Title V, Federal Supplus Property Program Federal Register Report for 10/19/01

Suitable/Available Properties

Buildings (by State)

Nebraska

Federal Building

1709 Jackson

Omaha Co: NE 68102-

Landholding Agency: GSA

Property Number: 54200140002

Status: Excess

Comment: 6564 sq. ft., needs repair, soil to be tested, most recent use—office/storage

GSA Number: GSA000

Washington

Clarkston USARC

721 Sixth St.

Clarkston Co: Asotin WA

Landholding Agency: GSA

Property Number: 54200140003

Status: Excess

Comment: total approx. 5043 sq. ft., presence of asbestos, most recent use—military reserve center/office

GSA Number: 9-D-WA-1196

Land (by State)

Florida

Lakeland Federal Property

N. Florida Ave. & Five Oaks St.

Lakeland Co: Polk FL 33806-

Landholding Agency: GSA

Property Number: 54200140001

Status: Surplus

Comment: 2.46 acres, former commercial use, environmental remediation in process

GSA Number: 4-G-FL-1092

Texas

11.8 acres

NALF Cabaniss

Saratoga Blvd

Corpus Christi Co: Nueces TX 75702-

Landholding Agency: GSA

Property Number: 54200140005

Status: Surplus

Comment: 11.8 acres w/security fence, most recent use—agriculture purposes

GSA Number: 7-N-TX-1061

Unsuitable Properties

Buildings (by State)

Alaska

Bldg. V001

Point Higgins

Ketchikan Co: AK 99901-

Landholding Agency: DOT

Property Number: 87200140001

Status: Excess

Reasons: Secured Area

Extensive deterioration

Bldgs. T003, T004

Point Higgins

Ketchikan Co: AK 99901-

Landholding Agency: DOT

Property Number: 87200140002

Status: Excess

Reasons: Secured Area, Extensive deterioration

Bldg. B001

Point Higgins

Ketchikan Co: AK 99901-

Landholding Agency: DOT

Property Number: 87200140003

Status: Excess

Reasons: Secured Area, Extensive deterioration

Bldg. B002

Point Higgins

Ketchikan Co: AK 99901-

Landholding Agency: DOT

Property Number: 87200140004

Status: Excess

Reasons: Secured Area, Extensive deterioration

Bldg. B003

Point Higgins

Ketchikan Co: AK 99901-

Landholding Agency: DOT

Property Number: 87200140005

Status: Excess

Reasons: Secured Area, Extensive deterioration

Bldg. B004

Point Higgins

Ketchikan Co: AK 99901-

Landholding Agency: DOT

Property Number: 87200140006

Status: Excess

Reason: Secured Area

Bldg. B006

Point Higgins

Ketchikan Co: AK 99901-

Landholding Agency: DOT

Property Number: 87200140007

Status: Excess

Reasons: Secured Area, Extensive deterioration

Bldg. B008

Point Higgins

Ketchikan Co: AK 99901-

Landholding Agency: DOT

Property Number: 87200140008

Status: Excess

Reasons: Secured Area, Extensive deterioration

Bldg. B009

Point Higgins

Ketchikan Co: AK 99901-

Landholding Agency: DOT

Property Number: 87200140009

Status: Excess

Reasons: Secured Area, Extensive deterioration

Bldg. B011

Point Higgins

Ketchikan Co: AK 99901—

Landholding Agency: DOT

Property Number: 87200140010

Status: Excess

Reasons: Secured Area, Extensive deterioration

Bldg. B012

Point Higgins

Ketchikan Co: AK 99901—

Landholding Agency: DOT

Property Number: 87200140011

Status: Excess

Reason: Secured Area, Extensive deterioration

California

Brock Research Center

Range 19E

Imperial Valley Co: Imperial CA

Landholding Agency: Interior

Property Number: 61200140001

Status: Excess

Reason: Extensive deterioration

Bldg. PM7002

Point Mugu Site Naval Base

Oxnard Co: Ventura CA 93042-5000

Landholding Agency: Navy

Property Number: 77200140001

Status: Unutilized

Reason: Extensive deterioration

Bldg. 1244

Marine Corps Base

Camp Pendelton Co: CA 92055—

Landholding Agency: Navy

Property Number: 77200140002

Status: Excess

Reason: Extensive deterioration

Bldg. 1331

Marine Corps Base

Camp Pendleton Co: CA 92055—

Landholding Agency: Navy

Property Number: 77200140003

Status: Excess

Reason: Extensive deterioration

Bldg. 1364

Marine Corps Base

Camp Pendleton Co: CA 92055—

Landholding Agency: Navy

Property Number: 77200140004

Status: Excess

Reason: Extensive deterioration

Bldg. 1674

Marine Corps Base

Camp Pendleton Co: CA 92055—

Landholding Agency: Navy

Property Number: 77200140005

Status: Excess

Reason: Extensive deterioration

Bldg. 1229

Marine Corps Base

Camp Pendleton Co: CA 92055—

Landholding Agency: Navy

Property Number: 77200140006

Status: Excess

Reason: Extensive deterioration

Bldg. 1242

Marine Corps Base

Camp Pendleton Co: CA 92055—

Landholding Agency: Navy

Property Number: 77200140007

Status: Excess

Reason: Extensive deterioration

Bldg. 1243

Marine Corps Base

Camp Pendleton Co: CA 92055—

Landholding Agency: Navy

Property Number: 77200140008

Status: Excess

Reason: Extensive deterioration

Bldg. 1253

Marine Corps Base

Camp Pendleton Co: CA 92055—

Landholding Agency: Navy

Property Number: 77200140009

Status: Excess

Reason: Extensive deterioration

Oregon

Bldg. 0320-00

Klamath Irrigation District

Klamath Falls Co: Klamath OR 97603-

Landholding Agency: Interior

Property Number: 61200140002

Status: Unutilized

Reason: Extensive deterioration

South Dakota

Residence

308 8th Ave South

Clearlake Co: Deuel SD 57226-

Landholding Agency: GSA

Property Number: 54200140004

Status: Surplus

Reason: Extensive deterioration

GSA Number: 7-J-SD-0552

Tennessee

Bldg. 81-22

Y-12 National Security Complex

Oak Ridge Co: Anderson TN 37831-

Landholding Agency: Energy

Property Number: 41200140001

Status: Unutilized

Reasons: Secured Area, Extensive deterioration

Bldg. 9409-26

Y-12 National Security Complex

Oak Ridge Co: Anderson TN 37831-

Landholding Agency: Energy

Property Number: 41200140002

Status: Unutilized

Reasons: Secured Area, Extensive deterioration

Bldg. 9723-4

Y-12 National Security Complex

Oak Ridge Co: Anderson TN 37831-

Landholding Agency: Energy

Property Number: 41200140003

Status: Unutilized

Reasons: Secured Area, Extensive deterioration

Bldg. 9733-4

Y-12 National Security Complex

Oak Ridge Co: Anderson TN 37831-

Landholding Agency: Energy

Property Number: 41200140004

Status: Unutilized

Reasons: Secured Area, Extensive deterioration

4 Bldgs.

Y-12 National Security Complex

Oak Ridge Co: Anderson TN 37831-

Landholding Agency: Energy

Property Number: 41200140005

Status: Unutilized

Reasons: Secured Area, Extensive deterioration

Bldg. 9949-1

Y-12 National Security Complex

Oak Ridge Co: Anderson TN 37831-

Landholding Agency: Energy

Property Number: 41200140006

Status: Unutilized

Reason: Secured Area

[FR Doc. 01-26025 Filed 10-18-01; 8:45 am]

BILLING CODE 4210-29-M